DEPARTMENT OF HOMELAND SECURITY

Coast Guard

33 CFR Part 165

[Docket No. USCG-2015-0594]

Safety Zones; Swim Events in Captain of the Port New York Zone

AGENCY: Coast Guard, DHS.

ACTION: Notice of enforcement of regulation.

SUMMARY: The Coast Guard will enforce various safety zones within the Captain of the Port New York Zone on the specified dates and times. This action is necessary to ensure the safety of vessels and spectators from hazards associated with swim events. During the enforcement period, no person or vessel may enter the safety zones without permission of the Captain of the Port (COTP).

DATES: The regulation for the safety zones described in 33 CFR 165.160 will be enforced on the dates and times listed in the table below.

FOR FURTHER INFORMATION CONTACT: If you have questions on this notice, call or email Lieutenant Douglas Neumann, Coast Guard; telephone 718-354-4154, email douglas.w.neumann@uscg.mil.

SUPPLEMENTARY INFORMATION: The Coast Guard will enforce the safety zones listed in 33 CFR 165.160 on the specified dates and times as indicated in Table 1 below. This regulation was published in the Federal Register on November 9, 2011 (76 FR 69617).

Table 1
1. | Hudson Valley Triathlon Swim Event 33 CFR 165.160(1.1) | • Location: All waters of the Hudson River in the vicinity of Ulster Landing, bound by the following points: 42°00′03.7″ N., 073°56′43.1″ W.; thence to 41°59′52.5″ N., 073°56′34.2″ W. thence to 42°00′15.1″ N., 073°56′25.2″ W. thence to 42°00′05.4″ N., 073°56′41.9″ W. thence along the shoreline to the point of beginning. This Safety Zone includes all waters within a 100-yard radius of each participating swimmer. • Date: July 12, 2015. • Time: 7:30 a.m.-8:30 a.m.
2. | Newburgh to Beacon Swim Event 33 CFR 165.160(1.2) Date: July 18, 2015 | • Location: Participants will cross the Hudson River between Newburgh and Beacon, New York approximately 1300 yards south of the Newburgh-Beacon Bridges. This Safety Zone includes all waters within a 100-yard radius of each participating swimmer. • Date: July 18, 2015. • Reserve Date: July 19, 2015. • Time 10:15 a.m.-01:15 p.m.
3. | Rose Pitnof Swim Swim Event 33 CFR 165.160(4.2) | • Location: Participants will swim between Manhattan, New York and the shore of Coney Island, New York transiting through the Upper New York Bay, under the Verrazano-Narrows Bridge and south in the Lower New York Bay. The route direction is determined by the predicted tide state and direction of current on the scheduled day of the event. This Safety Zone includes all waters within a 100-yard radius of each participating swimmer. • Date: August 15, 2015. • Time: 10:00 a.m.-05:00 p.m.

Under the provisions of 33 CFR 165.160, vessels may not enter the safety zones unless given permission from the COTP or a designated representative. Spectator vessels may transit outside the safety zones but may not anchor, block, loiter in, or impede the transit of other vessels. The Coast Guard may be assisted by other Federal, State, or local law enforcement agencies in enforcing this regulation.

This notice is issued under authority of 33 CFR 165.160(a) and 5 U.S.C. 552(a). In addition to this notice in the Federal Register, the Coast Guard will provide mariners with advanced notification of enforcement periods via the Local Notice to Mariners and marine information broadcasts.

If the COTP determines that a safety zone need not be enforced for the full duration stated in this notice, a Broadcast Notice to Mariners may be used to grant general permission to enter the safety zone.

Dated: June 23, 2015.
G. Loebl,
Captain, U.S. Coast Guard Captain of the Port New York.

[FR Doc. 2015-18995 Filed 7-31-15; 8:45 am]

BILLING CODE 9110-04-P